DEPARTMENT OF TRANSPORTATION

Federal Aviation Administration

[Docket #FAA-2022-0410]

Notice of Funding Opportunity

AGENCY: Federal Aviation Administration (FAA), Transportation (DOT).

ACTION: Notice of funding opportunity.

SUMMARY: The Department of Transportation (DOT), Federal Aviation Administration (FAA), announces the opportunity to apply for $20 million in FY 2022 Airport Infrastructure Grant funds for the newly established FAA Contract Tower (FCT) Competitive Grant Program, made available under the Infrastructure Investment and Jobs Act of 2021 (IIJA), herein referred to as the Bipartisan Infrastructure Law (BIL). The purpose of the FCT Competitive Grant Program is to make annual grants available to eligible airports for airport-owned airport traffic control tower (ATCT) projects that address the aging infrastructure of the nation's airports.

In addition, FCT Competitive Grant Program will align with DOT's Strategic Framework FY2022-2026 at www.transportation.gov/administrations/office-policy/fy2022-2026-strategic-framework. The FY 2022 FCT Competitive Grant Program will be implemented, as appropriate and consistent with law, in alignment with the priorities in the Executive Order, Implementation of the Infrastructure Investments and Jobs Act, which are to invest efficiently and equitably, promote the competitiveness of the U.S. economy, improve job opportunities by focusing on high labor standards, strengthen infrastructure resilience to all hazards, including climate change, and to effectively coordinate with State, local, Tribal, and territorial government partners.

DATES: Airport sponsors that wish to be considered for FY 2022 FCT Competitive Grant Program funding should submit an application that meets the requirements of this NOFO as soon as possible, but no later than 5:00 p.m. Eastern time, May 16, 2022. Submit applications electronically at https://www.faa.gov/bil/airport-infrastructure/fct per instructions in this NOFO.

FOR FURTHER INFORMATION CONTACT: Robin K. Hunt, BIL Implementation Team, FAA Office of Airports, at (202) 267-3263 or our FAA BIL email address: 9-ARP-BILAirports@faa.gov.

SUPPLEMENTARY INFORMATION:

A. Program Description

BIL established the FCT Competitive Grant Program, which provides $20 million in grant funding annually for five years (Fiscal Years 2022-2026) to sustain, construct, repair, improve, rehabilitate, modernize, replace, or relocated nonapproach control towers; acquire and install air traffic control, communications, and related equipment to be used in those towers; and construct a remote tower certified by the FAA including acquisition and installation of air traffic control, communications, or related equipment. This program also supports the President's goals to mobilize American ingenuity to build modern infrastructure and an equitable, clean energy future. In support of Executive Order 13985, Advancing Racial Equity and Support for Underserved Communities Through the Federal Government (86 FR 7009), the FAA encourages applicants to consider how the project will address the challenges faced by individuals in underserved communities and rural areas.

The FCT Competitive Grant Program falls under the project grant authority for the Airport Improvement Program (AIP) in 49 United States Code (U.S.C.) § 47104. Per 2 Code of Federal Regulations (CFR) Part 200—Uniform Administrative Requirements, Cost Principles, and Audit Requirements for Federal Awards the AIP Federal Assistance Listings Number is 20.106, with the objective to assist eligible airports in the development and improvement of a nationwide system that adequately meets the needs of civil aeronautics. The FY 2022 FCT Competitive Grant Program will be implemented, as appropriate and consistent with BIL, in alignment with the priorities in Executive Order 14052, Implementation of the Infrastructure Investments and Jobs Act (86 FR 64355), which are to invest efficiently and equitably, promote the competitiveness of the U.S. economy, improve opportunities for good-paying jobs with the free and fair choice to join a union by focusing on high labor standards, strengthen infrastructure resilience to all hazards, including climate change, and to effectively coordinate with State, local, Tribal, and territorial government partners.

Consistent with statutory criteria and Executive Order 14008, Tackling the Climate Crisis at Home and Abroad (86 FR 7619), the FAA also seeks to fund projects under the FCT Competitive Grant Program that reduce greenhouse gas emissions and are designed with specific elements to address climate change impacts. Specifically, the FAA is looking to award projects that align with the President's greenhouse gas reduction goals, promote energy efficiency, support fiscally responsible land use and transportation efficient design, support development compatible with the use of sustainable aviation fuels and technologies, increase climate resilience, incorporate sustainable pavement and construction materials as allowable, and reduce pollution.

B. Federal Award Information

The FCT Competitive Grant Program is a $100 million grant program, distributed as $20 million annually for five years (Fiscal Years 2022, 2023, 2024, 2025, and 2026). The FAA will consider projects at airport-owned Airport Traffic Control Tower (ATCT) that sustain, construct, repair, improve, rehabilitate, modernize, replace, or relocated nonapproach control towers; acquire and install air traffic control, communications, and related equipment to be used in those towers; or construct a remote tower certified by the FAA including acquisition and installation of air traffic control, communications, or related equipment. To date, the FAA has no certified Remote Towers. The FAA is currently evaluating this technology to assess its suitability for use in the National Airspace System (NAS). In addition, these projects will also be evaluated based on overall impact on the NAS including age of facility, operational constraints, nonstandard facilities, or new FCT entrant requirements. This also includes applicable Executive Orders as listed in Section E.2.

The FAA will publish a NOFO annually to announce additional funding made available, $20 million per year, for Fiscal Years 2023-2026.

C. Eligibility Information

1. Eligible Applicants

Eligible applicants are those airport sponsors approved in the FAA's contract tower program or contract tower cost share program as defined in 49 U.S.C. 47124, and normally eligible for Airport Improvement Program (AIP) discretionary grants as defined in 49 U.S.C. 47115. This includes a public agency, private entity, and State agency, Indian Tribe or Pueblo owning a public-use National Plan of Integrated Airport System (NPIAS) airport, the Secretary of the Interior for Midway Island Airport, the Republic of the Marshall Islands, Federated States of Micronesia, and Republic of Palau.

2. Cost Sharing or Matching

The Federal cost share of the FCT Competitive Grant Program is 100 percent for all airports eligible to receive grants.

3. Project Eligibility

All projects funded from the FCT Competitive Grant Program must be:

i. Airport-owned ATCT projects that sustain, construct, repair, improve, rehabilitate, modernize, replace, or relocated nonapproach control towers;

ii. Projects that acquire and install air traffic control, communications, and related equipment to be used in those towers; or

iii. Projects to construct a remote tower ¹ certified by the FAA including acquisition and installation of air traffic control, communications, or related equipment.

¹ To date, the FAA has no certified Remote Towers. The FAA is currently evaluating this technology to assess its suitability for use in the National Airspace System (NAS). Remote Tower information is located at www.faa.gov/airports/planning_capacity/non_federal/remote_tower_systems/.

D. Application and Submission Information

1. Address To Request Application Package

An application for FCT Competitive Grant Program projects, FAA Form 5100-144, Bipartisan Infrastructure Law, Airport Terminal and Tower Project Information, can be found at: https://www.faa.gov/bil/airport-infrastructure/fct.

Direct all inquiries regarding applications to the appropriate Regional Office (RO) or Airports District Office (ADO) (RO/ADO contact information is available at https://www.faa.gov/about/office_org/headquarters_offices/arp/offices/regional_offices) or to the BIL Team at: 9-ARP-BILAirports@faa.gov.

2. Content and Form of Application Submission

Applicants will be required to submit information contained in FAA Form 5100-144, Bipartisan Infrastructure Law, Airport Terminal and Tower Project Information. This form is provided to assist airports in completing the submission requirements established in this NOFO. Application instructions and the form can be found at: https://www.faa.gov/bil/airport-infrastructure/fct.

All applications must be submitted electronically following the instruction on the form. Once the form is complete, save a copy of the form electronically to your files for future reference. Next, scroll to the bottom of the form and press the “submit” button. The form will be automatically emailed to the FAA BIL Team for review and evaluation, or as a backup, email the form manually to: 9-ARP-BILAirports@faa.gov.

Applicants selected to receive an FCT Competitive Grant Program grant will then be required to follow AIP grant application procedures prior to award, which include meeting all prerequisites for funding, and submission of Standard Form SF-424, Application for Federal Assistance, and FAA Form 5100-100, Application for Development Projects.

Airports covered under the FAA's State Block Grant Program or airports in a channeling act state should coordinate with their associated state agency on the process for who should submit an application, via the procedures noted above.

3. Unique Entity Identifier and System for Award Management (SAM)

Applicants must comply with 2 CFR part 25—Universal Identifier and System for Award Management. All applicants must have a unique entity identifier provided by SAM. Additional information about obtaining a Unique Entity Identifier (UEI) and registration procedures may be found at the SAM website (currently at http://www.sam.gov). Each applicant is required to: (1) Be registered in SAM; (2) provide a valid UEI prior to grant award; and (3) continue to maintain an active SAM registration with current information at all times during which the applicant has an active Federal award or an application or plan under consideration by the FAA. Under the FCT Competitive Grant Program, the UEI and SAM account must belong to the entity that has the legal authority to apply for, receive, and execute grants.

Once awarded, the FAA grant recipient must maintain the currency of its information in SAM until the grantee submits the final financial report required under the grant or receives the final payment, whichever is later. A grant recipient must review and update the information at least annually after the initial registration and more frequently if required by changes in information or another award term.

The FAA may not make an award until the applicant has complied with all applicable UEI and SAM requirements. If an applicant has not fully complied with the requirements by the time the FAA is ready to make an award, the FAA may determine that the applicant is not qualified to receive an award and use that determination as a basis for giving a Federal award to another applicant.

Non-Federal entities that have received a Federal award are required to report certain civil, criminal, or administrative proceedings to SAM (currently the Federal Awardee Performance and Integrity Information System (FAPIIS) www.fapiis.gov) to ensure registration information is current and complies with Federal requirements. Applicants should refer to 2 CFR 200.113 for more information about this requirement.

4. Submission Dates and Times

Airports that wish to be considered for FY 2022 FCT Competitive Grant Program funding should submit an application that meets the requirements of this NOFO as soon as possible, but no later than 5:00 p.m. Eastern time on May 16, 2022. Submit applications electronically at https://www.faa.gov/bil/airport-infrastructure/fct per instructions in this NOFO. Airports that submitted projects under the FY 2022 Airport Terminal Program NOFO (87 FR 10890), that meet the eligibility requirements outlined in C.1., do not need to resubmit under this NOFO.

5. Funding Restrictions

All projects funded from the FCT Competitive Grant Program must be at airports approved in the FAA's contract tower program or contract tower cost share program defined in 49 U.S.C. 47124.

FCT Competitive Grant Program funds may not be used to support or oppose union organizing.

E. Application Review Information

1. Criteria

Applications for FY 2022 FCT Competitive Grant Program will be rated using the following criteria:

i. Must meet eligibility requirements under the FCT Competitive Grant Program outlined under Sections C.1 and C.3 above.

ii. Timeliness of implementation, with priority given to those projects that can satisfy all statutory and administrative requirements for grant award in FY 2022 or early FY2023.

iii. ATCT projects will be evaluated based on overall impact on the NAS including age of facility, operational constraints, nonstandard facilities conditions, or new FCT entrant requirements.

iv. Priority will be given to projects that advance aviation safety or enhance air traffic efficiency.

v. The applicant should describe whether and how project delivery and implementation creates good-paying jobs with the free and fair choice to join a union to the greatest extent possible, the use of demonstrated strong labor standards, practices and policies (including for direct employees, contractors, and sub-contractors); use of project labor agreements; distribution of workplace rights notices; the use of Local Hire Provisions; ² registered apprenticeships; or other similar standards or practices. The applicant should describe how planned methods of project delivery and implementation (for example, use of Project Labor Agreements and/or Local Hire Provisions,³ training and placement for underrepresented workers) provide opportunities for all workers, including workers underrepresented in construction jobs, to be trained and placed in good-paying jobs directly related to the project. FAA will consider this information in evaluating the application.

² IIJA div. B Section 25019 provides authority to use geographical and economic hiring preferences, including local hire, for construction jobs, subject to any applicable State and local laws, policies, and procedures.

³ Project labor agreement should be consistent with the definition and standards outlined in Executive Order 14063.

2. Review and Selection Process

Applications will be evaluated based on the information submitted related to the above criteria in E.1 to ensure responsiveness to this NOFO and the intent of the FCT Competitive Grant Program. Federal awarding agency personnel will evaluate applications based on how well the projects meet the criteria in E.1, including project eligibility, justification, and readiness. The FAA will also consider projects that advance the goals of the following Executive Orders: The President's January 20, 2021, Executive Order 13990, “Protecting Public Health and the Environment and Restoring Science to Tackle the Climate Crisis”; the President's January 20, 2021, Executive Order 13985, “Advancing Racial Equity and Support for Underserved Communities Through the Federal Government”; the President's January 27, 2021, Executive Order 14008, “Tackling the Climate Crisis at Home and Abroad”; and the President's July 9, 2021, Executive Order 14036, “Promoting Competition in the American Economy.”

3. Integrity and Performance Check

Prior to making a Federal award with a total amount of Federal share greater than the simplified acquisition threshold, FAA is required to review and consider any information about the applicant that is in the designated integrity and performance system accessible through SAM (currently FAPIIS) (see 41 U.S.C. 2313). An applicant, at its option, may review information in the designated integrity and performance systems accessible through SAM and comment on any information about itself that a Federal awarding agency previously entered. FAA will consider any comments by the applicant, in addition to the other information in the designated integrity and performance system, in making a judgment about the applicant's integrity, business ethics, and record of performance under Federal awards when completing the review of risk posed by applicants as described in § 200.206.

F. Federal Award Administration Information

1. Federal Award Notices

BIL awards are announced through a Congressional notification process and a DOT Secretary's Notice of Intent to Fund. The FAA RO/ADO representative will contact the airport with further information and instructions. Once all pre-grant actions are complete, the FAA RO/ADO will offer the airport sponsor a grant for the announced project. This offer may be provided through postal mail or by electronic means. Once this offer is signed by the airport sponsor, it becomes a grant agreement. Awards made under this program are subject to conditions and assurances in the grant agreement.

2. Administrative and National Policy Requirements

i. Pre-Award Authority

Costs incurred after the enactment of BIL, November 15, 2021, are eligible for reimbursement under the FCT Competitive Grant Program.

ii. Grant Requirements

All grant recipients are subject to the grant requirements of the AIP, found in 49 U.S.C. Chapter 471. Grant recipients are subject to requirements in the FAA's AIP Grant Agreement for financial assistance awards; the annual certifications and assurances required of applicants; and any additional applicable statutory or regulatory requirements, including nondiscrimination requirements and 2 CFR part 200, Uniform Administrative Requirements, Cost Principles, and Audit Requirements for Federal Awards. Grant requirements include, but are not limited to: Approved projects on an airport layout plan; compliance with Federal civil rights laws; Buy American requirements under 49 U.S.C. 50101; Build America, Buy America requirements in sections 70912(6) and 70914 in Public Law No: 117-58, the Infrastructure Investment and Jobs Act; the Department of Transportation's Disadvantaged Business Enterprise (DBE) Program regulations for airports (49 CFR part 23 and 49 CFR part 26); and prevailing wage rate requirements under the Davis-Bacon Act, as amended (40 U.S.C. 276a-276a-5, and reenacted at 40 U.S.C. 3141-3144, 3146, and 3147).

iii. Standard Assurances

Each grant recipient must assure that it will comply with all applicable Federal statutes, regulations, executive orders, directives, FAA circulars, and other Federal administrative requirements in carrying out any project supported by the grant. The grant recipient must acknowledge that it is under a continuing obligation to comply with the terms and conditions of the grant agreement issued for its project with the FAA. The grant recipient understands that federal laws, regulations, policies, and administrative practices might be modified from time to time and may affect the implementation of the project. The grant recipient must agree that the most recent Federal requirements will apply to the project unless the FAA issues a written determination otherwise.

The grant recipient must submit the certifications at the time of grant application and assurances must be accepted as part of the grant agreement at the time of accepting a grant offer. Grant recipients must also comply with 2 CFR part 200, which is cited in the grant assurances of the grant agreements. The airport sponsor assurances are available on the FAA website at: https://www.faa.gov/airports/aip/grant_assurances.

3. Reporting

Grant recipients are subject to financial reporting per 2 CFR 200.328 and performance reporting per 2 CFR 200.329. Under the FCT Competitive Grant Program, the grant recipient is required to comply with all Federal financial reporting requirements and payment requirements, including the submittal of timely and accurate reports. Financial and performance reporting requirements are available in the FAA October 2020 Financial Reporting Policy, which is available at: https://www.faa.gov/airports/aip/grant_payments/media/aip-grant-payment-policy.pdf.

The grant recipient must comply with annual audit reporting requirements. The grant recipient and sub-recipients, if applicable, must comply with 2 CFR part 200 subpart F Audit Reporting Requirements. The grant recipient must comply with any requirements outlined in 2 CFR part 180, Office of Management and Budget (OMB) Guidelines to Agencies on Government wide Debarment and Suspension.

G. Federal Awarding Agency Contact(s)

For further information concerning this notice, please contact the FAA BIL Implementation Team via email at: 9-ARP-BILAirports@faa.gov. In addition, FAA will post answers to frequently asked questions and requests for clarifications on FAA's website at https://www.faa.gov/bil. To ensure applicants receive accurate information about eligibility of the program, the applicant is encouraged to contact FAA directly, rather than through intermediaries or third parties, with questions.

All applicants should have a plan to address potential cost overruns as part of an overall funding plan.

Issued in Washington, DC, on April 15, 2022.
Robin K. Hunt,
Manager, FAA Office of Airports BIL Implementation Team.

[FR Doc. 2022-08421 Filed 4-19-22; 8:45 am]

BILLING CODE 4910-13-P